MERIT SYSTEMS PROTECTION BOARD

Notice; Relocation of Headquarters

AGENCY: Merit Systems Protection Board.

ACTION: Notice of relocation of the Board's headquarters offices.

SUMMARY: The Merit Systems Protection Board (MSPB) publishes this notice to announces to the public the relocation of its headquarters offices. The Board will continue to receive filings through the move, which will take place over the weekend beginning on Friday night, July 21, 2000. Filings due to the Board after July 21, 2000 are to be addressed to U.S. Merit Systems Protection Board, 1615 M Street, NW., Washington, DC 20419. Headquarters telephone numbers, fax numbers and e-mail addresses will not change. The telephone, fax and e-mail systems will be out of operation from 12 noon on July 21, 2000 until 8:30 am Monday, July 24, 2000. The headquarters office will be open for business beginning on July 24, 2000.

EFFECTIVE DATE: July 17, 2000.

ADDRESSES: Office of the Clerk of the Board, U.S. Merit Systems Protection Board, 1120 Vermont Avenue, NW., Washington, DC 20419.

FOR FURTHER INFORMATION CONTACT: Matthew Shannon, or Shannon McCarthy(202) 653-7200.

Dated: July 11, 2000.
Robert E. Taylor,
Clerk of the Board.

[FR Doc. 00-17976 Filed 7-14-00; 8:45 am]

BILLING CODE 7400-01-M